DEPARTMENT OF COMMERCE

Census Bureau

Agency Information Collection Activities; Submission to the Office of Management and Budget (OMB) for Review and Approval; Comment Request; Supplemental Questions to the Annual Business Survey (0607-1004) To Capture a Baseline of Work From Home Options of Businesses In 2019

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on July 6, 2020 during a 60-day comment period. This notice allows for an additional 30 days for public comments.

Agency: U.S. Census Bureau.

Title: Supplemental questions to the Annual Business Survey (0607-1004) to capture a baseline of work from home options of businesses in 2019.

OMB Control Number: 0607-1015.

Form Number(s): None.

Type of Request: Regular submission, Regular Submission. Request for an Extension, without Change, of a Currently Approved Collection.

Number of Respondents: 300,000.

Average Hours per Response: 3 minutes.

Burden Hours: 15,000.

Needs and Uses: The U.S. Census Bureau requests an extension to the approved request for clearance of the adding supplemental questions to the Annual Business Survey (0607-1004) to capture a baseline of remote work options at businesses in 2019. The OMB number for the supplemental questions is 0607-1015. The supplemental questions were approved by OMB under an emergency clearance through November 30, 2020. This extension is needed due to the necessity to keep the 2020 ABS in the field through December 31, 2020. We seek approval for this extension by November 30, 2020.

The additional questions are designed to measure work from home operations of businesses in 2019 to capture a baseline. If deemed warranted, next year's ABS would propose adding the same or similar questions to understand work from home operations of businesses during the Coronavirus pandemic in 2020. ABS is designed to allow for incorporating new content each survey year based on topics of relevance. The ABS includes all nonfarm employer businesses filing Internal Revenue Service (IRS) tax forms as individual proprietorships, partnerships, or any other type of corporations, with receipts of $1,000 or more.

The questions are part of Section A—Company Information. The questions are designed to measure three concepts, specifically for 2019 (prior to the Coronavirus pandemic):

(1) Does the firm allow work from home?

(2) To what degree are employees of the firm engaging in work from home?

(3) What are the limiting factors for work from home?

The supplemental questions are being collected in the ABS is to establish a baseline for the status of work from home prior to the coronavirus pandemic. These data are not available from any other source. The ABS is uniquely positioned to create these estimates, and we may want to ask these questions again in the future to see if the coronavirus pandemic has an immediate effect (in 2020) or longer run effect (in 2021) on businesses offering work at home options to their employees. The goal of adding work from home content would be to:

• Create estimates of the number of businesses that provide work from home options for their employees by business characteristics (for example: Size, age, geography, industry)

• Create percent of workers who are working from home by business characteristics (for example: Size, age, geography, industry)

• Determine if businesses ability/willingness to offer expanded work from home options to employees changed during the pandemic and if those options were temporary or appear to be more permanent conditions of employment within those businesses.

Affected Public: Business or other for-profit organizations.

Frequency: Annually.

Respondent's Obligation: Mandatory.

Legal Authority: Title 13 United States Code, Sections 8(b), 131, and 182; Title 42 United States Code, Section 1861-76 (National Science Foundation Act of 1950, as amended); and Section 505 within the America COMPETES Reauthorization Act of 2010 authorize this collection. Sections 224 and 225 of Title 13 United States Code require response from sampled firms.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-1015.

Sheleen Dumas,
Department PRA Clearance Officer, Office of the Chief Information Officer, Commerce Department.

[FR Doc. 2020-19989 Filed 9-9-20; 8:45 am]

BILLING CODE 3510-07-P